FEDERAL TRADE COMMISSION

Agency Information Collection Activities; Proposed Collection; Comment Request

AGENCY: Federal Trade Commission (“FTC” or “Commission”).

ACTION: Notice.

SUMMARY: The Federal Trade Commission is seeking public comments on its proposal to conduct consumer research on parental use of the Motion Picture Association of America (“MPAA”) movie rating information as it appears on DVD packaging for home video releases of rated motion pictures. The FTC is also seeking comment on a related proposal to conduct consumer research on parental attitudes toward the marketing of unrated DVD versions of rated motion pictures. To examine both issues, the Commission intends to conduct surveys of parents who have one or more children ages 7 to 16, and who have bought or rented a movie on DVD within the past year. The information collection requirements described below will be submitted to the Office of Management and Budget (“OMB”) for review, as required by the Paperwork Reduction Act (“PRA”).

DATES: Comments must be filed by August 4, 2008.

ADDRESSES: Interested parties are invited to submit written comments. Comments should refer to “DVD Rating Symbol Study: FTC Matter No. P994511,” to facilitate the organization of comments. A comment filed in paper form should include this reference both in the text and on the envelope and should be mailed or delivered to the following address: Federal Trade Commission, Office of the Secretary, Room H-135 (Annex J), 600 Pennsylvania Ave., NW, Washington, DC 20580. The FTC is requesting that any comment filed in paper form be sent by courier or overnight service, if possible because U.S. postal mail in the Washington area and at the Commission is subject to delay due to heightened security precautions. Moreover, because paper mail in the Washington area and at the Agency is subject to delay, please consider submitting your comments in electronic form, as prescribed below. If, however, the comment contains any material for which confidential treatment is requested, it must be filed in paper form, and the first page of the document must be clearly labeled “Confidential.”¹

¹ FTC Rule 4.2(d), 16 CFR 4.2(d). The comment must be accompanied by an explicit request for confidential treatment, including the factual and legal basis for the request, and must identify the specific portions of the comment to be withheld from the public record. The request will be granted or denied by the Commission's General Counsel, consistent with applicable law and the public interest. See Commission Rule 4.9(c), 16 CFR 4.9(c).

Comments filed in electronic form should be submitted by following the instructions on the web-based form at https://secure.commentworks.com/ftc-DVDRatingStudy. To ensure that the Commission considers an electronic comment, you must file it on the web-based form at the https://secure.commentworks.com/ftc-DVDRatingStudy weblink. If this notice appears at www.regulations.gov, you may also file an electronic comment through that website. The Commission will consider all comments that regulations.gov forwards to it.

The FTC Act and other laws the Commission administers permit the collection of public comments to consider and use in this proceeding as appropriate. All timely and responsive public comments will be considered by the Commission and will be available to the public on the FTC website, to the extent practicable, at www.ftc.gov. As a matter of discretion, the FTC makes every effort to remove home contact information for individuals from the public comments it receives before placing those comments on the FTC website. More information, including routine uses permitted by the Privacy Act, may be found in the FTC’s privacy policy at (http://www.ftc.gov/ftc/privacy.shtm).

FOR FURTHER INFORMATION CONTACT: Requests for additional information should be addressed to Michelle K. Rusk (202) 326-3148, or Keith R. Fentonmiller (202) 326-2775, Attorneys, Division of Advertising Practices, Bureau of Consumer Protection, Federal Trade Commission, 600 Pennsylvania Avenue, N.W., Washington, DC 20580.

SUPPLEMENTARY INFORMATION: In September 2000, the Commission issued a report requested by the President and the Congress entitled, “Marketing Violent Entertainment to Children: A Review of Self-Regulation and Industry Practices in the Motion Picture, Music Recording & Electronic Game Industries” (hereafter “2000 Report”).² That report found that the entertainment industry had engaged in widespread marketing of violent movies, video games, and music to children in a manner that was inconsistent with the industry’s own rating systems and that undermined parents’ attempts to make informed decisions about their children’s exposure to violent content. Beginning with its 2000 Report, the Commission has made a series of specific recommendations to the industry regarding the disclosure of rating information, placement of advertising in media popular with children, and other aspects of marketing violent entertainment to children. The Commission has now issued five follow-up reports on the industry’s progress toward implementing those recommendations.³

² Available at (http://www.ftc.gov/bcp/conline/edcams/ratings/reports.htm).

³ The follow-up reports were issued in April 2001, December 2001, June 2002, July 2004, and April 2007. They are available at (http://www.ftc.gov/bcp/conline/edcams/ratings/reports.htm).

As one aspect of its ongoing monitoring, the Commission has examined the disclosure of MPAA ratings and rating reasons on DVD packaging for home video releases of MPAA-rated motion pictures. The MPAA Advertising Handbook requires that “all packaging of rated home video releases must carry the rating of the motion picture and the rating reasons,” and that “the rating symbol and specific rating reasons must be clearly and legibly displayed.”⁴ The MPAA Advertising Handbook does not specify the location, size, or other aspects of how the rating information must be displayed. To assess compliance with MPAA requirements, the Commission looked at a sample of packaging for 12 movies on DVD as part of its June 2002 Report. The Commission found that all of the DVDs displayed the ratings and rating reasons, but that the small size, inconsistent positioning on the back of the package, and poor contrast made the rating information less noticeable.⁵ The Commission recommended that the industry improve the disclosure of rating information to ensure that it was effectively and clearly communicated on product packaging.⁶ Subsequently, in its July 2004 Report, the Commission again noted that the movie industry typically places the movie’s rating and rating reasons on the back of the DVD packaging and recommended that all of the rating information be placed prominently on the front of the packaging to make it more visible for parents and children and to assist retail store clerks in enforcing policies against selling R-rated DVDs to children.⁷ The Commission renewed this recommendation in its April 2007 Report.⁸

⁴ 2006 MPAA Advertising Handbook at 38 (on file with Federal Trade Commission staff).

⁵ June 2002 Report at 10-11, available at (http://www.ftc.gov/bcp/conline/edcams/ratings/reports.htm).

⁶ Id.

⁷ July 2004 Report at 29, available at (http://www.ftc.gov/bcp/conline/edcams/ratings/reports.htm).

⁸ April 2007 Report at 32, available at (http://www.ftc.gov/bcp/conline/edcams/ratings/reports.htm).

In the April 2007 Report, the Commission also reviewed, for the first time, the movie industry’s practice of releasing unrated DVD versions of movies that were rated R when they were first released in theaters.⁹ The Commission expressed concern that these unrated, or so-called “Director’s Cut,” home video releases sometimes contain additional footage that would result in a more restrictive rating if resubmitted for review by the MPAA. The agency cited examples of DVD movie packaging where studios exploited the lack of an MPAA rating to promote the movie. The Commission questioned whether the marketing of these unrated DVDs undermines the self-regulatory system. The agency suggested that the MPAA and DVD retailers establish policies on the advertising and sale of these DVDs to children.¹⁰

⁹ Id. at 8-11.

¹⁰ Id. at 33.

The FTC is seeking public comments on its proposal to examine, through consumer research, two issues relating to MPAA ratings and DVD home video releases: (1) how the placement and size of MPAA rating information on DVD packaging for rated movies affects parental use of the rating; and (2) parental awareness and attitudes about the marketing of unrated DVDs. The Commission will seek OMB clearance under the PRA, 44 U.S.C. 3501-3521, before engaging in the proposed consumer research.

Under the PRA, federal agencies must obtain approval from OMB for each collection of information they conduct or sponsor. “Collection of information” means agency requests or requirements that members of the public submit reports, keep records, or provide information to a third party. 44 U.S.C. 3502(3); 5 CFR 1320.3(c). As required by section 3506(c)(2)(A) of the PRA, the FTC is providing this opportunity for public comment before requesting that OMB grant the clearance for this consumer survey.

The FTC invites comments on: (1) whether the required collection of information is necessary for the proper performance of the functions of the agency, including whether the information will have practical utility; (2) the accuracy of the agency’s estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology, e.g., permitting electronic submission of responses.

All comments should be filed as prescribed in the ADDRESSES section above, and must be received on or before August 4, 2008.

1. Description of the Collection of Information and Proposed Use

The FTC proposes to conduct a mall intercept study, using an experimental design with two treatment conditions, to assess how the placement and size of MPAA rating information on DVD packaging affects parental use of the rating. The FTC proposes to conduct a telephone survey to assess parental awareness and attitudes about the marketing of unrated DVDs. The methodologies for both consumer research proposals are detailed below.

a. The Mall Intercept Study on DVD Rating Prominence

A mall intercept study is the most appropriate methodology for assessing differences in the effect of placement and size of the MPAA rating because it allows respondents to physically examine samples of DVD packaging. The study will have an experimental design with respondents randomly assigned to one of two treatment conditions. The study will analyze differences in response between the two groups.

The FTC proposes to conduct the study in multiple locations across the country using a random sample of 400 adult respondents who are parents of one or more children ages 7 to 16, and who have bought or rented a DVD movie for their children within the past year. The study will be divided into two groups of 200. Each group will be given the opportunity to examine a DVD package for a movie that has been rated either PG-13 or R due in part to violent content.¹¹ One group will be exposed to DVD packaging that displays the rating information as it actually appears on the back cover. The other group will be exposed to the same DVD packaging, with the exception that the rating information will be graphically altered to appear on the front panel and in a larger size. After exposure to the package, respondents will be asked a series of questions related to what respondents noticed about the package, whether they noticed the rating information, and whether or not they would allow their child to watch the movie.

¹¹ Parents of children ages 7 to 11 will be shown DVD packaging for a PG-13-rated movie and parents of children ages 12 to 16 will be shown packaging for an R-rated movie. Parents with children in both age groups will be randomly assigned to either the PG-13 or R group.

The information from the questionnaires will be collected on a voluntary basis, and the identities of the respondents will remain confidential. Subject to OMB approval for the collection of information, the FTC plans to contract with a consumer research firm that will identify respondents, conduct a pretest, refine the questionnaire, and conduct the study. The results will assist the FTC in determining how easy or difficult it is for parents to find and use MPAA rating information on DVD packaging and whether changes in presentation of the rating information will significantly improve the ease of use.

b. The Telephone Survey

To assess parental awareness and attitudes about the marketing of unrated DVDs, the FTC plans to conduct a national telephone survey of 1,000 adult respondents who are parents of one or more children ages 7 to 16, and who have bought or rented a DVD movie for their children within the past year. This approach will allow the agency to have a sufficiently large and representative sample of the population to accurately assess parents’ awareness and attitudes. Respondents will be asked a combination of open-ended and closed-ended questions. The questions will measure the level of parents’ awareness of the marketing of unrated DVDs and assess whether parents understand that unrated DVD movies may contain content that could result in a more restrictive rating than the rating assigned to the theater version of the same movie. Additional questions will be designed to assess parents’ attitudes about the marketing of unrated DVDs, including how the absence of a rating affects their decision whether to allow their children to watch the movie. Finally, respondents will be asked questions about what policy they expect DVD retailers to apply to the sale of unrated DVDs directly to children.

As with the mall intercept study, the information from the telephone survey questionnaires will be collected on a voluntary basis, and the identities of the respondents will remain confidential. Subject to OMB approval for the collection of information, the FTC plans to contract with a consumer research firm that will identify respondents, conduct a pretest of the survey, refine the questionnaire, and conduct the survey. The results of the telephone survey will assist the FTC in assessing how the marketing of unrated DVDs impacts parents’ decisions about what movies they will allow their children to watch. It will also help the FTC in forming recommendations about retail policies for the sale of unrated DVDs directly to children.

2. Estimated Hours Burden

For the mall intercept study and a pretest of the study, the contractor will screen respondents to identify parents with children ages 7 to 16 who have bought or rented a DVD movie for their child within the past year. Allowing for non-response, the FTC staff estimates that the screening questions will be asked of approximately 2,000 respondents in order to obtain a large enough sample for the study and the pretest. The FTC staff estimates that screening will require no more than two minutes per person for a maximum hour burden of 67 hours (2,000 respondents 2 minutes for each).

The FTC intends to pretest the questionnaire on 15 parents to ensure that all questions are easily understood. The FTC expects that the pretest will require no more than 10 minutes per person. The hours burden imposed by the pretest will be approximately 2.5 hours (15 respondents 10 minutes for each).

The FTC staff estimates that the study of 400 respondents also will require no more than 10 minutes per person or, cumulatively, 67 hours (400 respondents 10 minutes for each).

Thus, the estimated total hours burden attributable to the mall intercept study is 136.5 hours (67 + 2.5 + 67).

For the telephone survey and a pretest of the survey, the contractor will apply the same screening threshold, identifying respondents who are parents with children ages 7 to 16 who have bought or rented a DVD movie for their child within the past year. Allowing for non-response, the FTC staff estimates that the screening questions will be asked of approximately 9,000 respondents in order to obtain a large enough sample for the survey and the pretest. The FTC staff estimates that screening will require no more than one minute per person for a maximum hour burden of 150 hours (9,000 respondents 1 minute for each).

The FTC intends to pretest the questionnaire on 100 parents to ensure that all questions are easily understood. The FTC expects that the pretest will require no more than 5 minutes per person. The hours burden imposed by the pretest will be approximately 8.5 hours (100 respondents 5 minutes for each).

The FTC staff estimates that the survey of 1,000 respondents also will require no more than 5 minutes per person or 83.5 hours (1,000 respondents 5 minutes for each).

Thus, the estimated total hours burden attributable to the telephone survey research is 242 hours (150 + 8.5 + 83.5).

The combined total hours burden attributable to both research projects is 378.5 hours (242 + 136.5).

3. Estimated Cost Burden

The cost per respondent should be negligible. Participation is voluntary and will not require any labor expenditures by respondents nor capital, start-up, operation, maintenance, or other similar costs.

William Blumenthal
General Counsel

[FR Doc. E8-12590 Filed 6-4-08: 8:45 am]

[Billing code: 6750-01-S]